DEPARTMENT OF TRANSPORTATION

Federal Aviation Administration

14 CFR Part 39

[Docket No. FAA-2016-8185; Directorate Identifier 2016-NM-050-AD]

RIN 2120-AA64

Airworthiness Directives; Airbus Airplanes

AGENCY: Federal Aviation Administration (FAA), DOT.

ACTION: Notice of proposed rulemaking (NPRM).

SUMMARY: We propose to supersede Airworthiness Directive (AD) 2003-18-06, for certain Airbus Model A319-131 and -132 airplanes; Model A320-231, -232, and -233 airplanes; and Model A321-131 and -231 airplanes. AD 2003-18-06 currently requires installing new anti-swivel plates and weights on the engine fan cowl door (FCD) latches and a new cowl door hold-open device. Since we issued AD 2003-18-06, we have received reports of additional engine FCD in-flight losses, and a new FCD front latch and keeper assembly has been developed to address this unsafe condition. This proposed AD would retain the current actions and require modifying the engine FCDs, installing placards, and re-identifying the FCDs with the new part numbers. This proposed AD would also revise the applicability to include all Model A319-131 and -132 airplanes; Model A320-231, -232, and -233 airplanes; and Model A321-131 and -231 airplanes. We are proposing this AD to prevent in-flight loss of an engine FCD and possible consequent damage to the airplane and hazards to persons or property on the ground.

DATES: We must receive comments on this proposed AD by September 19, 2016.

ADDRESSES: You may send comments by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE., Washington, DC 20590.

• Hand Delivery: U.S. Department of Transportation, Docket Operations,M-30, West Building Ground Floor, Room W12-140, 1200 New Jersey Avenue SE., Washington, DC, between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-8185; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Comments Invited

We invite you to send any written relevant data, views, or arguments about this proposed AD. Send your comments to an address listed under the ADDRESSES section. Include “Docket No. FAA-2016-8185; Directorate Identifier 2016-NM-050-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 29, 2003, we issued AD 2003-18-06, Amendment 39-13297 (68 FR 53501, September 11, 2003) (“AD 2003-18-06”). AD 2003-18-06 requires actions intended to address an unsafe condition on certain Airbus Model A319-131 and -132 airplanes; Model A320-231, -232, and -233 airplanes; and Model A321-131 and -231 airplanes.

Since we issued AD 2003-18-06, we have received reports of additional engine FCD in-flight losses, and a new FCD front latch and keeper assembly has been developed to address this unsafe condition.

The European Aviation Safety Agency (EASA), which is the Technical Agent for the Member States of the European Union, has issued EASA Airworthiness Directive 2016-0053, dated March 14, 2016 (referred to after this as the Mandatory Continuing Airworthiness Information, or “the MCAI”), to correct an unsafe condition for all Airbus Model A319-131 and -132; A320-231, -232, and -233; and A321-131 and -231 airplanes. The MCAI states:

Fan Cowl Door (FCD) losses during take-off were reported on aeroplanes equipped with IAE V2500 engines. Prompted by these occurences, [Direction Générale de l'Aviation Civile] DGAC France issued AD 2000-444-156(B), mandating FCD latch improvements. This [DGAC] AD was later superseded by AD 2001-381(B) [which corresponds to FAA AD 2003-18-06], requiring installation of additional fan cowl latch improvement by installing a hold open device.

Since that [DGAC] AD was issued, further FCD in flight losses were experienced in service. Investigations confirmed that in all cases, the fan cowls were opened prior to the flight and were not correctly re-secured. During the pre-flight inspection, it was then not detected that the FCD were not properly latched.

This condition, if not corrected, could lead to in-flight loss of a FCD, possibly resulting in damage to the aeroplane and/or injury to persons on the ground.

Prompted by these recent events, new FCD front latch and keeper assembly were developed, having a specific key necessary to un-latch the FCD. This key cannot be removed unless the FCD front latch is safely closed. The key, after removal, must be stowed in the flight deck at a specific location, as instructed in the applicable Aircraft Maintenance Manual. Applicable Flight Crew Operating Manual has been amended accordingly. After modification, the FCD is identified with a different Part Number (P/N).

For the reasons described above, this [EASA] AD retains the requirements of DGAC AD 2001-381(B), which is superseded, and requires modification and re-identification of FCD.

You may examine the MCAI in the AD docket on the Internet at http://www.regulations.gov by searching for and locating Docket No. FAA-2016-8185.

Related Service Information Under 1 CFR Part 51

Airbus has issued Service Bulletin A320-71-1069, dated December 18, 2015. The service information describes procedures for modifying the engine FCDs, installing placards, and re-identifying the FCDs with the new part numbers. This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 558 airplanes of U.S. registry.

The actions required by AD 2003-18-06, and retained in this proposed AD, take about 8 work-hours per product, at an average labor rate of $85 per work-hour. Required parts cost about $1,500 per product. Based on these figures, the estimated cost of the actions that are required by AD 2003-18-06 is $2,180 per product.

We also estimate that it would take about 6 work-hours per product to comply with the basic requirements of this proposed AD. The average labor rate is $85 per work-hour. Required parts would cost about $4,813 per product. Based on these figures, we estimate the cost of this proposed AD on U.S. operators to be $2,970,234, or $5,323 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-18-06, Amendment 39-13297 (68 FR 53501, September 11, 2003), and adding the following new AD:

Airbus: Docket No. FAA-2016-8185; Directorate Identifier 2016-NM-050-AD.

(a) Comments Due Date

We must receive comments by September 19, 2016.

(b) Affected ADs

This AD replaces AD 2003-18-06, Amendment 39-13297 (68 FR 53501, September 11, 2003) (“AD 2003-18-06”).

(c) Applicability

This AD applies to Airbus Model A319-131 and -132 airplanes; Model A320-231, -232, and -233 airplanes; and Model A321-131 and -231 airplanes; certificated in any category; all manufacturer serial numbers.

(d) Subject

Air Transport Association (ATA) of America Code 71, Powerplant.

(e) Reason

This AD was prompted by reports of engine fan cowl door (FCD) in-flight losses. We are issuing this AD to prevent in-flight loss of an engine FCD and possible consequent damage to the airplane and hazards to persons or property on the ground.

(f) Compliance

Comply with this AD within the compliance times specified, unless already done.

(g) Retained Modification and/or Installation, With No Changes

This paragraph restates the requirements of paragraph (a) of AD 2003-18-06, with no changes. Within 18 months after October 16, 2003 (the effective date of AD 2003-18-06), do the action(s) specified in paragraph (g)(1) or (g)(2) of this AD, as applicable.

(1) For Configuration 01 airplanes identified in Airbus Service Bulletin A320-71-1028, dated March 23, 2001: Modify the door latches of the fan cowl of both engines (i.e., installation of new anti-swivel plates and weights), and install a new hold-open device, in accordance with the Accomplishment Instructions of Airbus Service Bulletin A320-71-1028, dated March 23, 2001.

(2) For Configuration 02 airplanes identified in Airbus Service Bulletin A320-71-1028, dated March 23, 2001: Install a new hold-open device, in accordance with the Accomplishment Instructions of Airbus Service Bulletin A320-71-1028, dated March 23, 2001.

(h) New Modifications

Within 36 months after the effective date of this AD, do the actions required by paragraphs (h)(1), (h)(2), and (h)(3) of this AD, in accordance with the Accomplishment Instructions of Airbus Service Bulletin A320-71-1069, dated December 18, 2015.

(1) Modify the left-hand and right-hand FCDs on engines 1 and 2.

(2) Install a placard on the box located at the bottom of the 120 VU panel or at the bottom of the coat stowage, as applicable.

(3) Re-identify both engine FCDs with the new part numbers (P/Ns), as specified in table 1 to paragraph (h) of this AD and table 2 to paragraph (h) of this AD, as applicable.

Table 1 to Paragraph (h) of This AD—Left-Side Door
Old part No. | New part No.
740-4000-501 | 740-4000-9501
740-4000-503 | 740-4000-9503
745-4000-501 | 745-4000-513
745-4000-503 | 745-4000-515
745-4000-505 | 745-4000-517

Table 2 to Paragraph (h) of This AD—Right-Side Door
Old part No. | New part No.
740-4000-502 | 740-4000-9502
740-4000-504 | 740-4000-9504
740-4000-506 | 740-4000-9506
740-4000-508 | 740-4000-9508
745-4000-502 | 745-4000-9502
745-4000-504 | 745-4000-9504
745-4000-506 | 745-4000-9506
745-4000-508 | 745-4000-514
745-4000-510 | 745-4000-516
745-4000-512 | 745-4000-518

(i) New Alternative Compliance

(1) Replacing an engine FCD having a part number listed as “Old Part Number” in table 1 to paragraph (h) of this AD or table 2 to paragraph (h) of this AD, as applicable, with a FCD having the corresponding part number listed as “New Part Number” in table 1 to paragraph (h) of this AD or table 2 to paragraph (h) of this AD, as applicable, is an acceptable method of compliance with the requirements of paragraphs (h)(1) and (h)(3) of this AD for that engine FCD only.

(2) An airplane on which Airbus Modification 157516 has been embodied in production is compliant with the requirements of paragraph (h)(1) and (h)(3) of this AD, provided no engine FCD, having a part number identified as “Old Part Number” in table 1 to paragraph (h) of this AD or table 2 to paragraph (h) of this AD, as applicable, is installed on that airplane.

(3) An airplane on which Airbus Modification 157718 has been embodied in production is compliant with the requirements of paragraph (h)(2) of this AD.

(j) New Parts Installation Limitations

(1) For an airplane with an engine FCD installed having a part number identified as “Old Part Number” in table 1 to paragraph (h) of this AD or table 2 to paragraph (h) of this AD, as applicable: After modification of that airplane as required by paragraph (h) of this AD, do not install an engine FCD, having a part number identified as “Old Part Number” in table 1 to paragraph (h) of this AD or table 2 to paragraph (h) of this AD, as applicable.

(2) For an airplane that does not have an engine FCD installed having a part number identified as “Old Part Number” in table 1 to paragraph (h) of this AD or table 2 to paragraph (h) of this AD, as applicable: On or after the effective date of this AD, do not install an engine FCD, having a part number identified as “Old Part Number” in table 1 to paragraph (h) of this AD or table 2 to paragraph (h) of this AD, as applicable.

(k) New Method of Compliance

Installation on an engine of a right-hand and left-hand engine FCD having a part number approved after the effective date of this AD is a method of compliance with the requirements of paragraphs (g), (h)(1), and (h)(3) of this AD for that engine only, provided the part number is approved, and the installation is accomplished, in accordance with a method approved by the Manager, International Branch, ANM-116, Transport Airplane Directorate, FAA; or the European Aviation Safety Agency (EASA); or Airbus's EASA Design Organization Approval (DOA).

(l) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: 425-227-1405; fax: 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: As of the effective date of this AD, for any requirement in this AD to obtain corrective actions from a manufacturer, the action must be accomplished using a method approved by the Manager, International Branch, ANM-116, Transport Airplane Directorate, FAA; or EASA; or Airbus's EASA DOA. If approved by the DOA, the approval must include the DOA-authorized signature.

(3) Required for Compliance (RC): Except as required by paragraph (k) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(m) Related Information

(1) Refer to Mandatory Continuing Airworthiness Information (MCAI) EASA Airworthiness Directive 2016-0053, dated March 14, 2016, for related information. This MCAI may be found in the AD docket on the Internet at http://www.regulations.gov by searching for and locating Docket No. FAA-2016-8185.

(2) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on July 26, 2016.
Victor Wicklund,
Acting Manager, Transport Airplane Directorate, Aircraft Certification Service.

[FR Doc. 2016-18492 Filed 8-4-16; 8:45 am]

BILLING CODE 4910-13-P